CONSUMER PRODUCT SAFETY COMMISSION

16 CFR Parts 1508 and 1509

[CPSC Docket No. CPSC-2010-0075]

Revocation of Requirements for Full-Size Baby Cribs and Non-Full-Size Baby Cribs

AGENCY: Consumer Product Safety Commission.

ACTION: Proposed rule.

SUMMARY: Section 104(b) of the Consumer Product Safety Improvement Act of 2008 (“CPSIA”) requires the United States Consumer Product Safety Commission (“CPSC” or “Commission”) to promulgate consumer product safety standards for durable infant or toddler products. These standards are to be “substantially the same as” applicable voluntary standards or more stringent than the voluntary standard if the Commission concludes that more stringent requirements would further reduce the risk of injury associated with the product. The Commission is proposing to revoke its existing regulations pertaining to full-size and non-full-size cribs because, elsewhere in this issue of the Federal Register, the Commission is proposing consumer product safety standards for cribs that will further reduce the risk of injury associated with these products under section 104 of the CPSIA. The consumer product safety standard for cribs would include the requirements that are currently found at 16 CFR parts 1508 and 1509 for full-size and non-full-size cribs. To eliminate duplication, the Commission is proposing to remove 16 CFR parts 1508 and 1509 entirely.

DATES: Written comments must be received by October 6, 2010.

ADDRESSES: Comments, identified by Docket No. CPSC-2010-0075, may be submitted by any of the following methods:

Electronic Submissions

Submit electronic comments in the following way:

Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East-West Highway, Bethesda, MD 20814; telephone (301) 504-7923.

Instructions: All submissions received must include the agency name and docket number for this rulemaking. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Patricia Edwards, Project Manager, Directorate for Engineering Sciences, Consumer Product Safety Commission, 4330 East-West Highway, Bethesda, MD 20814; telephone (301) 504-7577; pedwards@cpsc.gov.

SUPPLEMENTARY INFORMATION:

A. What regulations is the CPSC proposing to revoke?

CPSC first published the full-size crib regulation, 16 CFR part 1508, in 1973 (38 FR 32129 (Nov. 21, 1973)) and amended it in 1982. CPSC published the regulation for non-full-size cribs, 16 CFR part 1509, in 1976 (41 FR 6240 (Feb. 12, 1976)) and amended it in 1982. Both standards currently contain requirements pertaining to dimensions, spacing of components, hardware, construction and finishing, assembly instructions, cutouts, identifying marks, warning statements, and compliance declarations. In addition, 16 CFR part 1509 contains a requirement regarding mattresses.

B. Why is CPSC proposing to revoke the regulations pertaining to cribs?

The Consumer Product Safety Improvement Act of 2008, Public Law 110-314 (“CPSIA”) was enacted on August 14, 2008. Section 104(b) of the CPSIA requires the Commission to promulgate consumer product safety standards for durable infant or toddler products. These standards are to be “substantially the same as” applicable voluntary standards or more stringent than the voluntary standard if the Commission concludes that more stringent requirements would further reduce the risk of injury associated with the product. Elsewhere in this issue of the Federal Register, the Commission is proposing safety standards for full-size and non-full-size cribs under the authority of section 104 of the CPSIA. These new proposed standards, if finalized, will adopt the voluntary standards developed by ASTM International (formerly known as the American Society for Testing and Materials), which are more stringent in some respects than the current applicable standards, and include ASTM F 1169-10, “Standard Consumer Safety Specification for Full-Size Baby Cribs,” and ASTM F 406-10, “Standard Consumer Safety Specification for Non-Full-Size Baby Cribs/Play Yards.”

The proposed standards which the CPSC is publishing elsewhere in this issue of the Federal Register incorporate all of the requirements currently found in 16 CFR parts 1508 and 1509. Consequently, if the Commission issues a final rule to adopt the consumer product safety standards for full-size and non-full-size cribs pursuant to section 104(b) of the CPSIA, the requirements found at 16 CFR parts 1508 and 1509 would become redundant. The Commission, therefore, intends to revoke 16 CFR parts 1508 and 1509 in their entirety.

The Commission emphasizes that the proposed revocation of 16 CFR parts 1508 and 1509 would have no substantive effect on crib safety. The requirements currently found at 16 CFR parts 1508 and 1509 would still apply to full-size and non-full-size cribs, but would be part of new consumer product safety standards to be codified at 16 CFR parts 1219 and 1220.

C. Paperwork Reduction Act

This proposed rule would not impose any information collection requirements. Accordingly, this rule is not subject to the Paperwork Reduction Act, 44 U.S.C. 3501-3520.

D. Environmental Considerations

This proposed rule falls within the scope of the Commission's environmental review regulation at 16 CFR 1021.5(c)(1), which provides a categorical exclusion from any requirement for the agency to prepare an environmental assessment or environmental impact statement for rules that revoke product safety standards.

E. Effective Date

The Commission proposes that a final rule to revoke 16 CFR parts 1508 and 1509 become effective upon the effective date of the new mandatory standards to be developed for full-size and non-full-size cribs.

List of Subjects in 16 CFR Parts 1508 and 1509

Consumer protection, Cribs and bassinets, Infants and children, Reporting and recordkeeping requirements.

For the reasons stated above, and under the authority of section 3 of the CPSIA and 5 U.S.C. 553, the Consumer Product Safety Commission proposes to remove 16 CFR parts 1508 and 1509 entirely.

PART 1508—[REMOVED]

1. Under authority of section 3 of the CPSIA, part 1508 is removed entirely.

PART 1509—[REMOVED]

2. Under authority of section 3 of the CPSIA, part 1509 is removed entirely.

Dated: July 14, 2010.
Todd A. Stevenson,
Secretary, U.S. Consumer Product Safety Commission.

[FR Doc. 2010-17591 Filed 7-22-10; 8:45 am]

BILLING CODE 6355-01-P